DEPARTMENT OF THE TREASURY

Internal Revenue Service

26 CFR Part 1

[REG-123525-23]

RIN 1545-BR06

Section 45W Credit for Qualified Commercial Clean Vehicles

AGENCY: Internal Revenue Service (IRS), Treasury.

ACTION: Notice of proposed rule; cancellation of public hearing.

SUMMARY: This document cancels a public hearing on proposed regulations that would provide guidance on the qualified commercial clean vehicle credit enacted by the Inflation Reduction Act of 2022.

DATES: The public hearing scheduled for April 28, 2025, at 10 a.m. Eastern Time (ET) is cancelled.

ADDRESSES: See public comments submitted electronically via the Federal eRulemaking Portal at https://www.regulations.gov by searching IRS and REG-123525-23.

FOR FURTHER INFORMATION CONTACT: Shantol Coleman of the Publications and Regulations Section, Associate Chief Counsel (Procedure and Administration) at (202) 317-3569 (not a toll-free number).

SUPPLEMENTARY INFORMATION: A notice of proposed rulemaking appeared in the Federal Register on January 14, 2025 (90 FR 3506). The public hearing on the proposed rulemaking, announced in the Federal Register on January 14, 2025, at 90 FR 3506, is cancelled.

Oluwafunmilayo A. Taylor,
Section Chief, Publications and Regulations Section, Associate Chief Counsel, (Procedure & Administration).

[FR Doc. 2025-06377 Filed 4-14-25; 8:45 am]

BILLING CODE 4830-01-P